DEPARTMENT OF AGRICULTURE

Commodity Credit Corporation

Revision and Extension of a Currently Approved Collection

AGENCY: Commodity Credit Corporation, USDA.

ACTION: Notice and request for comments.

SUMMARY: Commodity Credit Corporation (CCC) is seeking approval from the Office of Management and Budget (OMB) to obtain information regarding transportation services needed to meet domestic and export food assistance program needs.

This information collection will allow CCC to determine the availability of motor freight carriers to meet CCC's transportation needs.

DATES: Comments on this notice must be received on or before June 28, 2002, to be assured consideration.

FOR FURTHER INFORMATION CONTACT: Greg Borchert, Chief, Planning and Analysis Division, Kansas City Commodity Office (KCCO), 6501 Beacon Drive, Kansas City, Missouri 64133-4676, telephone (816) 926-6509, fax (816) 926-1648; e-mail gmborchet@kcc.fsa.usda.gov.

SUPPLEMENTARY INFORMATION: Title: Standard Rules Tender Governing Motor Carrier Transportation.

OMB Control Number: 0560-0195.

Type of Request: Revision and Extension of a currently approved collection.

Abstract: CCC through the Kansas City Commodity Office (KCCO) solicits bids from transportation companies for the purpose of providing motor carrier transportation of agricultural commodities. Motor Carriers provide over the road trucking that CCC hires to provided transportation services to meet domestic and export program needs. Motor carriers that choose to do business with the KCCO Export Operations Division (EOD) are required to complete and submit, one time only, the Standard Rules Tender Governing Motor Carrier Transportation. EOD is collecting information to determine the Motor Carriers that are available to meet CCC requirements for hauling agricultural products for CCC.

Estimate of Burden: Public reporting burden for collecting information under this notice is estimated to average 1 hour per response, including the time for reviewing instructions, searching existing data sources, gathering and maintaining the data needed, and completing and reviewing the collection of information.

Respondents: Transportation Businesses.

Respondents: 99.

Estimated Number of Annual Responses per Respondent: 1.

Estimated Total Annual Burden on Respondents: 99 hours.

Proposed topics for comment include: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology. Comments regarding this information collection requirement may be directed to the Office of Information and Regulatory Affairs of OMB, Attention: Desk Officer for USDA, Washington, DC 20503, and to Greg Borchert, Chief, Planning and Analysis Division, Kansas City Commodity Office, 6501 Beacon Drive, Kansas City, Missouri 64133-4676, telephone (816) 926-6509, fax (816) 926-1648. All comments will become a matter of public record.

OMB is required to make a decision concerning the collection(s) of information contained in these proposed regulations between 30 and 60 days after publication of this document in the Federal Register. Therefore, a comment to OMB is best assured of having its full effect if OMB receives it within 30 days of publication.

Signed at Washington, DC, on April 22, 2002.
James R. Little,
Executive Vice President, Commodity Credit Corporation.

[FR Doc. 02-10390 Filed 4-26-02; 8:45 am]

BILLING CODE 3410-05-P